DEPARTMENT OF HEALTH AND HUMAN SERVICES

Office of the Secretary

[Document Identifier: OS-0990-New]

30-Day Notice; Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection.

Title of Information Collection: Evaluation of the Parents Speak Up National Campaign: Focus Groups.

Form/OMB No.: OS-0990-New.

Use: Evaluation of the Parents Speak Up National Campaign (PSUNC): Focus Groups, formerly entitled The National Abstinence Media Campaign (NAMC): Focus Group. The focus group component of the evaluation is designed to complement longitudinal surveys of parents, described in the information collection request published in the November 9, 2006, Federal Register. A total of 16 focus groups will be conducted with parents of children aged 10 to 13. Two groups of mothers and two groups of fathers will be conducted for each of the the following groups: non-Hispanic Whites, non-Hispanic African Americans, English-speaking Hispanics, and Spanish-speaking Hispanics. The purpose of the focus group data collection is to help evaluate the Parents Speak Up National Campaign by learning qualitatively why parents may or may not change their attitudes and/or behaviors as a result of exposure to campaign messages. It will provide in-depth understanding of parents’ views about their influence on children's sexual attitudes and behaviors, and about parents’ reactions to the PSUNC materials.

Frequency: Reporting on Occasion.

Affected Public: Individuals or Households.

Annual Number of Respondents: 1280.

Total Annual Responses: 1280.

Average Burden Per Response: 15 minutes.

Total Annual Hours: 320.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the Desk Officer at the address below: OMB Desk Officer: John Kraemer, OMB Human Resources and Housing Branch, Attention: (OMB #0990-New), New Executive Office Building, Room 10235, Washington, DC 20503.

Dated: February 22, 2007.
Alice Bettencourt,
Office of the Secretary, Paperwork Reduction Act Reports Clearance Officer.

[FR Doc. 07-1158 Filed 3-13-07; 8:45 am]

BILLING CODE 4150-25-P